DEPARTMENT OF TRANSPORTATION

Federal Aviation Administration

Seventeenth Meeting: RTCA Special Committee 222, AMS(R)S

AGENCY: Federal Aviation Administration (FAA), U.S. Department of Transportation (DOT).

ACTION: Meeting Notice of RTCA Special Committee 222, AMS(R)S.

SUMMARY: The FAA is issuing this notice to advise the public of the seventeenth meeting of the RTCA Special Committee 222, Inmarsat AMS(R)S. The purpose of this meeting is threefold. First, we will consider the draft Change 4 to DO-210D. The draft will be submitted to the workspace no later than close of business Eastern time on January 12. Second, we will consider a work plan to progress development of Iridium NEXT material for DO-343, as approved by the PMC on December 16, 2014. Third, we will consider a work plan to progress cooperation with Eurocae WG-82, as approved by the PMC on December 16, 2014.

DATES: The meeting will be held January 22, 2015 from 9:00 a.m.-4:00 p.m.

ADDRESSES: RTCA Headquarters, 1150 18th St. NW., Suite 910, Washington, DC 20036. This meeting is expected to be largely virtual, conducted over Webex with a telephone bridge. Dr. LaBerge and Mr. Robinson will be present at RTCA. Those who plan to attend in person at the RTCA offices should notify Jennifer Iversen by January 18, 2015 to assure that appropriate space is reserved. Please contact Jennifer Iversen (jiversen@rtca.org) if you intent to attend in person or remotely.

FOR FURTHER INFORMATION CONTACT: Jennifer Iversen may be contacted directly at email: jiversen@rtca.org or by The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

January 22

• Greetings & Attendance.

• Review summary of April meeting (16th Plenary).

• Review draft Change 4 to DO-210D with the intent of approving it for the RTCA FRAC process.

• Develop work plan for preparation of Iridium NEXT material for DO-343.

• Develop work plan for cooperation with Eurocae WG-82.

• Other items as appropriate and time permitting. Please submit other items to Chuck LaBerge (laberge.engineering@gmail.com) by January 18.

• Schedule for 18th Plenary. The 18th Plenary session will be for the purpose of resolving any comments received during the FRAC process for Change 4 to DO-210D. By RTCA policy, this meeting must be in Washington, DC.

• Adjourn

• Remote instructions:

• https://rtca.webex.com/rtca/j.php?MTID=m8dc9a3b46efb799dc8125393a1fd8f04

• Meeting number: 685 974 934

• Meeting password: January22

• Audio connection:

• Dial: 1-888-481-3032

• International: 617-801-9600

• Participant Passcode: 22276542

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 18, 2014.
Mohannad Dawoud,
Management Analyst, NextGen, Program Oversight and Administration, Federal Aviation Administration.

[FR Doc. 2014-30260 Filed 12-23-14; 8:45 am]

BILLING CODE 4910-13-P